DEPARTMENT OF COMMERCE

International Trade Administration

[A-583-830]

Stainless Steel Plate in Coils From Taiwan: Final Results and Rescission in Part of Antidumping Duty Administrative Review

AGENCY: Import Administration, International Trade Administration, Department of Commerce.

ACTION: Notice of Final Results and Rescission in Part of Antidumping Duty Administrative Review.

SUMMARY: On June 19, 2001, the Department of Commerce (“Department”) published a notice of initiation of an antidumping duty administrative review on stainless steel plate in coils from Taiwan. This review covers two manufacturers/exporters of the subject merchandise, Yieh United Steel Corporation (“YUSCO”), a Taiwanese producer and exporter of subject merchandise, and Ta Chen Stainless Pipe Co., Ltd. (“Ta Chen”), a Taiwanese exporter of subject merchandise. The period of review (“POR”) is May 1, 2000 through April 30, 2001.

On February 7, 2002, the Department preliminarily determined that YUSCO's antidumping rate be based on total adverse facts available due to YUSCO's failure to participate in this proceeding. Therefore, for YUSCO, we applied the highest margin rate applied to YUSCO determined in a prior segment of this proceeding. With respect to Ta Chen, we preliminarily rescinded this review based on record evidence supporting the conclusion that there were no entries into the United States of subject merchandise during the POR. See Stainless Steel Plate in Coils From Taiwan; Preliminary Results and Rescission in Part of Antidumping Duty Administrative Review, 67 FR 5789 (February 7, 2002) (“Preliminary Notice”). The Department is now publishing its final determination.

Petitioners are Allegheny Ludlum, AK Steel Corporation, Butler Armco Independent Union, J&L Specialty Steel, Inc., North American Stainless, United Steelworkers of America, AFL-CIO/CLC, and Zanesville Armco Independent Organization herein called (“Petitioners”).

EFFECTIVE DATE: June 14, 2002.

FOR FURTHER INFORMATION CONTACT: Stephen Bailey or Robert Bolling, Import Administration, International Trade Administration, U.S. Department of Commerce, 14th Street and Constitution Avenue, N.W., Washington, DC 20230; telephone: (202) 482-1102 and (202) 482-3434 respectively.

SUPPLEMENTARY INFORMATION:

Applicable Statute and Regulations

Unless otherwise indicated, all citations to the Tariff Act of 1930, as amended (“the Act”), are references to the provisions effective January 1, 1995, the effective date of the amendments made to the Act by the Uruguay Round Agreements Act. In addition, unless otherwise indicated, all citations to the Department of Commerce's regulations are to 19 CFR part 351 (2001).

Background

On May 21, 1999, the Department of Commerce (“Department”) published the antidumping duty order on stainless steel plate in coils from Taiwan. See Antidumping Duty Orders; Certain Stainless Steel Plate in Coils From Belgium, Canada, Italy, the Republic of Korea, South Africa, and Taiwan, 64 FR 27756 (May 21, 1999). On May 1, 2001, the Department published a notice of opportunity to request an administrative review of this order for the period May 1, 2000 through April 30, 2001. See Antidumping or Countervailing Duty Order, Finding, or Suspended Investigation; Opportunity to Request Administrative Review, 66 FR 21740 (May 1, 2001). Petitioners timely requested that the Department conduct an administrative review of sales by YUSCO, a Taiwanese producer and exporter of subject merchandise, and Ta Chen, a Taiwanese exporter of subject merchandise. On June 19, 2001, in accordance with section 751(a) of the Act, the Department published in the Federal Register a notice of initiation of this antidumping duty administrative review of sales by YUSCO and Ta Chen for the period May 1, 2000 through April 30, 2001. See Initiation of Antidumping and Countervailing Duty Administrative Reviews and Requests for Revocations in Part, 66 FR 32934 (June 19, 2001). On July 10, 2001, the Department issued its antidumping duty questionnaire to YUSCO and Ta Chen. On August 2, 2001, Ta Chen reported to the Department that it did not have any U.S. sales, shipments or entries of subject merchandise during the POR, and requested that it not be required to answer the Department's questionnaire. YUSCO did not respond to the Department's antidumping questionnaire.

On February 7, 2002, the Department preliminarily determined that YUSCO's antidumping rate be based on total adverse facts available due to YUSCO's failure to participate in this proceeding. With respect to Ta Chen, we preliminarily rescinded this review based on record evidence and a Customs inquiry, both of which support the conclusion that there were no entries into the United States of subject merchandise during the POR. See Preliminary Notice, 67 FR 5790.

On March 11, 2002, Petitioners filed their case brief. Respondents did not file case or rebuttal briefs. Neither Petitioners nor respondents requested a hearing in the instant review.

Scope of the Review

For purposes of this review, the product covered is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this review are the following: (1) Plate not in coils, (2) plate that is not annealed or otherwise heat treated and pickled or otherwise descaled, (3) sheet and strip, and (4) flat bars. In addition, certain cold-rolled stainless steel plate in coils is also excluded from the scope of these orders. The excluded cold-rolled stainless steel plate in coils is defined as that merchandise which meets the physical characteristics described above that has undergone a cold-reduction process that reduced the thickness of the steel by 25 percent or more, and has been annealed and pickled after this cold reduction process. The merchandise subject to this review is currently classifiable in the HTS at subheadings: 7219.11.00.30, 7219.11.00.60, 7219.12.00.05, 7219.12.00.20, 7219.12.00.25, 7219.12.00.50, 7219.12.00.55, 7219.12.00.65, 7219.12.0070, 7219.12.00.80, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80.

Although the HTS subheadings are provided for convenience and Customs purposes, the written description of the merchandise under investigation is dispositive.

Period of Review

The POR is May 1, 2000 through April 30, 2001.

Analysis of Comments Received

All issues raised in the case and rebuttal briefs by parties to this administrative review are addressed in the “Issues and Decision Memorandum” (“Issues and Decision Memorandum”) from Joseph A. Spetrini, Deputy Assistant Secretary, Import Administration, to Faryar Shirzad, Assistant Secretary for Import Administration, dated June 7, 2002, which is hereby adopted by this notice. A list of the issues which parties have raised and to which we have responded, all of which are in the Decision Memorandum, is attached to this notice as an Appendix. Parties can find a complete discussion of all issues raised in this review and the corresponding recommendations in this public memorandum which is on file in the Central Records Unit, Room B-099 of the main Department building. In addition, a complete version of the Decision Memorandum can be accessed directly on the Web at http://ia.ita.doc.gov/frn/frnhome.htm. The paper copy and electronic version of the Decision Memorandum are identical in content.

Facts Available

Section 776(a)(2) of the Act provides that if an interested party withholds information that has been requested by the Department, fails to provide such information in a timely manner or in the form requested, significantly impedes a proceeding under the antidumping statute, or provides information that cannot be verified, the Department shall use facts available in reaching the applicable determination. In selecting from among the facts otherwise available, section 776(b) of the Act authorizes the Department to use an adverse inference if the Department finds that a party has failed to cooperate by not acting to the best of its ability to comply with requests for information. See also The Statement of Administrative Action to the URAA, H. Doc. 103-316 (1994) at 870 (“SAA”) (further discussing the application of adverse facts available).

For the final results, in accordance with section 776(a)(2) of the Act, we have determined that the use of facts available is appropriate for YUSCO. We confirmed that YUSCO received, but failed to respond to, the Department's questionnaire. Because YUSCO has failed to provide any information for our review on the record, we have therefore applied total facts available to the record for YUSCO.

As noted above, in selecting facts otherwise available, pursuant to section 776(b) of the Act, the Department may use an adverse inference if the Department finds that an interested party, such as YUSCO in this case, failed to cooperate by not acting to the best of its ability to comply with requests for information. YUSCO has not acted to the best of its ability in this administrative review, failing to fully cooperate with the Department and respond to our questionnaire. Consistent with Department practice in cases where a respondent fails to cooperate to the best of its ability, and in keeping with section 776(b)(3) of the Act, as adverse facts available we have applied a margin based on the highest margin from this or any prior segment of the proceeding. See Elemental Sulphur From Canada: Final Results of Antidumping Duty Administrative Review, 65 FR 77567 (December 12, 2000).

The Department notes that while the highest margin calculated during this or any prior segment of the proceeding is 10.20 percent, this margin represents a combined rate applied in a channel transaction in the investigation based on middleman dumping by Ta Chen, which is not present in the instant case. Where circumstances indicate that a particular margin is not appropriate as adverse facts available, the Department will disregard the margin and determine another, more appropriate one as facts available. See Fresh Cut Flowers from Mexico; Final Results of Antidumping Duty Administrative Review, 61 FR 6812, 6814 (February 22, 1996) (where the Department disregarded the highest margin for use as adverse facts available because the margin was based on another company's uncharacteristic business expense, resulting in an unusually high margin). Because the middleman dumping calculated margin would be inappropriate, given that the record indicates that none of YUSCO's exports to the United States during the POR involved a middleman, the Department has applied the highest margin from any segment of the proceeding for YUSCO's exports to the U.S. without a middleman, which is 8.02 percent, the petition rate in the less-than-fair-value (LTFV) investigation.

Section 776(c) of the Act requires the Department to corroborate, to the extent practicable, secondary information used as facts available. Secondary information is described in the SAA as “[i]nformation derived from the petition that gave rise to the investigation or review, the final determination concerning the subject merchandise, or any previous review under section 751 concerning the subject merchandise.” SAA at 870. The SAA further provides that “corroborate” means simply that the Department will satisfy itself that the secondary information to be used has probative value. Id at 870. Thus, to corroborate secondary information, to the extent practicable, the Department will examine the reliability and relevance of the information used.

In the investigation, the Department determined that the petition margin was fully corroborated by examining the key elements of the U.S. price and normal value calculations on which the petition margin was based, and then comparing the sources used in the petition to YUSCO's reported sales databases. Notice of Final Determination of Sales at Less Than Fair Value: Stainless Steel Plate in Coils From Taiwan, 64 FR 15493, 15497 (March 31, 1999). This petition rate was applied to YUSCO in the investigation. For purposes of this administrative review, we have reviewed the petition and information on the administrative record, and found no reason to believe that the reliability of this information should be called into question. Further, the Department finds the administrative record of this review does not contain information which indicates that the application of the petition rate would be inappropriate in the instant review. Therefore, we find that the petition rate is sufficiently reliable and relevant to YUSCO for the present review.

Partial Rescission of Review

Pursuant to 19 CFR 351.213(d)(3), the Department may rescind an administrative review, in whole or only with respect to a particular exporter or producer, if the Secretary concludes that,during the period covered by the review, there were no entries, exports, or sales of the subject merchandise, as the case may be. As discussed above, in this case the Department is satisfied, after a review of information on the record and a Customs inquiry, that there were no entries of stainless steel plate in coils produced or exported from Ta Chen during the POR. Therefore, we have decided to rescind this review with respect to Ta Chen in accordance with 19 CFR 351.213(d)(3). The cash-deposit rate for YUSCO/Ta Chen¹ will remain as established in the original less-than-fair-value investigation.

¹ In those situations where Ta Chen is determined by the Department to be engaged in middleman dumping with YUSCO's subject merchandise, the Department will apply a rate which combines both YUSCO's and Ta Chen's cash deposit rates consistent with 19 CFR 351.107(b) and as explained in the Department's Position section of Comment 1 of the Issues and Decision Memorandum.

Changes Since the Preliminary Results

We have made no changes from the preliminary determination.

Final Results of Review

We determine that the following percentage margin exists for the period May 1, 2000 through April 30, 2001:

Stainless Steel Plate in Coils from Taiwan: Manufacturer/exporter/reseller | Stainless Steel Plate in Coils from Taiwan: Margin (percent)
YUSCO | 8.02

The Department shall determine, and U.S. Customs Service shall assess, antidumping duties on all appropriate entries. The Department will issue appraisement instructions directly to the U.S. Customs Service. For duty-assessment purposes, we will instruct Customs to assess the rate indicated above against the entered value of the subject merchandise entered during the period of review.

Cash Deposit Requirements

The following deposit requirements will be effective upon publication of the notice of the final results of this administrative review for all shipments of stainless steel plate in coils from Taiwan entered, or withdrawn from warehouse, for consumption on or after the date of publication, as provided by section 751(a)(1) of the Act: (1) The cash deposit rate for YUSCO will be the rate listed above, unless YUSCO's subject merchandise is exported to the United States through Ta Chen. If YUSCO's subject merchandise is exported to the United States through Ta Chen, then Customs should continue to apply a cash deposit rate of 10.20 percent; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be the “all others” rate of 7.39 percent, which is the all others rate established in the LTFV investigation.These deposit requirements shall remain in effect until publication of the final results of the next administrative review.

Notification of Interested Parties

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This issuing and publishing this determination in accordance with sections 751(a)(1) and 777(i) of the Act.

Dated: June 7, 2002.
Faryar Shirzad,
Assistant Secretary for Import Administration.

Appendix

A. Issues with Respect to YUSCO

1.Adverse Facts Available for YUSCO and YUSCO's Subject Merchandise

B. Issues with Respect to Ta Chen

2.Total Adverse Facts Available Rate of 10.20 percent Ad Valorem to Ta Chen's Subject Merchandise

[FR Doc. 02-15101 Filed 6-13-02; 8:45 am]

BILLING CODE 3510-DS-S